DEPARTMENT OF TRANSPORTATION

Federal Aviation Administration

14 CFR Part 39

[Docket No. 99-NM-228-AD; Amendment 39-11756; AD 2000-11-08]

RIN 2120-AA64

Airworthiness Directives; Boeing Model 747 and 767 Series Airplanes Powered by General Electric Model CF6-80C2 Series Engines; Correction

AGENCY: Federal Aviation Administration, DOT.

ACTION: Final rule; correction.

SUMMARY: This document corrects a typographical error that appeared in airworthiness directive (AD) 2000-11-08, amendment 39-11756, that was published in the Federal Register on June 1, 2000 (65 FR 34935). The typographical error resulted in a reference to an incorrect fuel specification. That AD is applicable to certain Boeing Model 747 and 767 series airplanes. That AD supersedes an earlier airworthiness directive to require revising the FAA-approved Airplane Flight Manual (AFM) to prohibit the use of certain fuels; and either replacing an existing placard with a new placard, or replacing all dribble flow fuel nozzles (DFFN) with standard fuel nozzles, which terminates the requirements for the new placard and AFM revision. That AD also includes identical requirements applicable to airplanes on which standard fuel nozzles are not installed.

DATES: Effective July 6, 2000.

FOR FURTHER INFORMATION CONTACT: Ed Hormel, Aerospace Engineer, Propulsion Branch, ANM-140S, FAA, Seattle Aircraft Certification Office, 1601 Lind Avenue, SW., Renton, Washington 98055-4056; telephone (425) 227-2681; fax (425) 227-1181.

SUPPLEMENTARY INFORMATION: Airworthiness Directive (AD) 2000-11-08, amendment 39-11756, applicable to certain Boeing Model 747 and 767 series airplanes, was published in the Federal Register on June 1, 2000 (65 FR 34935). That AD supersedes AD 98-08-23, amendment 39-10472 (63 FR 18817, April 16, 1998) to require revising the FAA-approved Airplane Flight Manual (AFM) to prohibit the use of certain fuels; and either replacing an existing placard with a new placard, or replacing all dribble flow fuel nozzles (DFFN) with standard fuel nozzles, which terminates the requirements for the new placard and AFM revision. That AD also includes identical requirements applicable to airplanes on which standard fuel nozzles are not installed.

As published, AD 2000-11-08 contains an erroneous fuel specification in paragraphs (a)(1)(i) and (c)(1) of that AD. Those paragraphs incorrectly reference MIL-T-83113, which is a specification that does not exist. The correct reference is MIL-T-83133.

Since no other part of the regulatory information has been changed, the final rule is not being republished.

Accordingly, in FR Doc. 00-13447 published June 1, 2000 (65 FR 34935), make the following corrections:

The effective date of this AD remains July 6, 2000.

§ 39.13 [Corrected]

1. On page 34937, in the second column, paragraph (a)(1)(i) of AD 2000-11-08 is corrected to read as follows:

AD 2000-11-08

* * * * *

(a) * * *

(1) * * *

(i) Revise paragraph 1 of the Engine Fuel System section to read as follows: “The fuel designation is General Electric (GE) Specification D50TF2, as revised. Fuel conforming to commercial jet fuel specification ASTM-D-1655, Jet A, and Jet A-1 are authorized for unlimited use in this engine. Fuels conforming to MIL-T-5624 grade JP-5 and MIL-T-83133 grade JP-8 are acceptable alternatives. The engine will operate satisfactorily with any of the foregoing fuels or any mixture thereof.” And,

* * * * *

2. On page 34937, in the third column, paragraph (c)(1) of AD 2000-11-08 is corrected to read as follows:

* * * * *

(c) * * *

(1) Revise paragraph 1 of the Engine Fuel System section to read as follows: “The fuel designation is General Electric (GE) Specification D50TF2, as revised. Fuel conforming to commercial jet fuel specification ASTM-D-1655, Jet A, and Jet A-1 are authorized for unlimited use in this engine. Fuels conforming to MIL-T-5624 grade JP-5 and MIL-T-83133 grade JP-8 are acceptable alternatives. The engine will operate satisfactorily with any of the foregoing fuels or any mixture thereof.” And,

* * * * *

Issued in Renton, Washington, on October 5, 2000.
Lirio Liu Nelson,
Acting Manager, Transport Airplane Directorate, Aircraft Certification Service.

[FR Doc. 00-26237 Filed 10-17-00; 8:45 am]

BILLING CODE 4910-13-P